DEPARTMENT OF AGRICULTURE

Agricultural Marketing Service

7 CFR Part 984

Walnuts Grown in California

CFR Correction

In Title 7 of the Code of Federal Regulations, parts 900 to 999, revised as of Jan. 1, 2004, on page 566, part 984 is corrected by reinstating the subpart heading and § 984.437 as follows:

Subpart—Administrative Rules and Regulations

§ 984.437 Methods for proposing names of additional candidates to be included on walnut growers' nomination ballots.

(a) Whenever the grower member position specified in § 984.35(a)(4) is assigned to growers who marketed their walnuts through independent handlers, any ten or more such growers who marketed an aggregate of 500 or more tons of walnuts through those handlers during the marketing year preceding the year in which Board nominations are held, may petition the Board to include on the nomination ballot the name of an eligible candidate for this position, and the name of an eligible candidate to serve as his alternate. The names of the eligible candidates proposed pursuant to this paragraph shall be included on the ballot together with the names of any incumbents who are willing to continue serving on the Board.

(b) Any ten or more growers eligible to serve in the grower member positions specified in § 984.35(a) (5) and (6) and who marketed an aggregate of 500 or more tons of walnuts through independent handlers during the marketing year preceding the year in which Board nominations are held, may petition the Board to include on the nomination ballot for a district the name of an eligible candidate for the applicable position, and the name of an eligible candidate to serve as his alternate. The names of the eligible candidates proposed pursuant to this paragraph shall be included on the ballot together with the names of any incumbents who are willing to continue serving on the Board.

(c) Petitions made pursuant to paragraphs (a) and (b) of this section shall be on forms supplied by the Board and filed no later than April 1 of the nomination year.

[41 FR 54476, Dec. 14, 1976]

[FR Doc. 04-55505 Filed 4-5-04; 8:45 am]

BILLING CODE 1505-01-D